DEPARTMENT OF THE INTERIOR

Bureau of Land Management

[LLNMA00000 L51010000.ER0000 LVRWG19G1360 19XL5017AP; NMNM 136976]

Notice of Availability of the Final Environmental Impact Statement and Proposed Land Use Plan Amendment for the Borderlands Wind Project in Catron County, New Mexico

AGENCY: Bureau of Land Management, Department of the Interior.

ACTION: Notice of availability.

SUMMARY: In accordance with the National Environmental Policy Act of 1969, as amended (NEPA), and the Federal Land Policy and Management Act of 1976, as amended (FLPMA), the Bureau of Land Management (BLM) has prepared a Final Environmental Impact Statement (EIS) for the proposed Borderlands Wind Project (Project) and proposed Socorro Field Office Resource Management Plan Amendment (RMPA) for the BLM Socorro Field Office, and by this Notice is announcing its availability.

DATES: This Notice initiates the 30-day protest period for a proposed plan amendment. Protests may be submitted in writing until May 11, 2020.

ADDRESSES: All protests must be submitted in writing and mailed to one of the following addresses:

Mail: Director (210), Attn: Protest Coordinator, P.O. Box 261117, Lakewood, CO 80226; or Overnight Delivery: Director (210), Attn: Protest Coordinator, 2850 Youngfield Street, Lakewood, CO 80215.

You may submit protests electronically through the BLM ePlanning project website: https://eplanning.blm.gov/epl-front-office/eplanning/planAndProjectSite.do?methodName=renderDefaultPlanOrProjectSite&projectId=116245&dctmId=0b0003e88126486a and at 43 CFR 1610.5-2. Protests submitted electronically by any means other than the ePlanning project website protest section will be invalid unless a protest is also submitted in hard copy. Protests submitted by fax will also be invalid unless also submitted either through ePlanning project website protest section or in hard copy. The Final EIS is available on line on the ePlanning website at: https://eplanning.blm.gov/epl-front-office/eplanning/planAndProjectSite.do?methodName=renderDefaultPlanOrProjectSite&projectId=116245&dctmId=0b0003e88126486a. Hard copies are available for viewing at the BLM Socorro field office and the BLM New Mexico State Office in Santa Fe.

FOR FURTHER INFORMATION CONTACT: Virginia Alguire, BLM Socorro Field Office, 901 S Hwy 85, Socorro, New Mexico 87801; phone 575-838-1290, or email to valguire@blm.gov. Persons who use a telecommunications device for the deaf (TDD) may call the Federal Information Relay Service (FRS) at 1-800-877-8339 to contact Ms. Alguire during normal business hours. The FRS is available 24 hours a day, 7 days a week, to leave a message or question with the above individual. You will receive a reply during normal business hours.

SUPPLEMENTARY INFORMATION: Pursuant to BLM's planning regulations at 43 CFR 1610.5-2, any person who participated in the planning process for this Proposed RMP and Integrated RMP and has an interest which is or may be adversely affected by the planning decisions may protest approval of the planning decisions contained therein.

The regulations specify the required elements of your protest. Take care to document all relevant facts. As much as possible, reference or cite the planning documents or available planning records (e.g. meeting minutes or summaries, correspondence, etc.).

Instructions for filing a protest with the Director of the BLM regarding the Final EIS/RMPA may be found online at https://www.blm.gov/programs/planning-and-nepa/public-participation/filing-a-plan-protest and at 43 CFR 1610.5-2. All protests must be in writing and mailed to the appropriate address, as set forth in the ADDRESSES section.

Borderlands Wind, LLC, submitted an application to the BLM requesting authorization to construct, operate, maintain, and terminate an up-to-100 megawatt commercial wind energy generation facility, the Borderlands Wind Project (NMNM136976), in Catron County, New Mexico, within a boundary that encompasses land managed by the BLM, the New Mexico State Land Office, and private landowners. The project would be located south of U.S. Route 60 in Catron County near Quemado, New Mexico, and the Arizona-New Mexico border. Authorization of this proposal requires amendments to the 2010 Socorro Field Office RMP to modify the visual resource management class in the project area and to modify a right-of-way avoidance area.

The Final EIS analyzed the direct, indirect, and cumulative environmental impacts of the Proposed Action, Alternative 1 (optimize the proposed wind facility components in order to minimize potential environmental impacts), Alternative 2 (change in the turbine generation types), and the No Action Alternative. Alternatives 1 and 2 would be constructed, operated, and maintained with the same project area. The Proposed Action and Alternative 1 would construct 40 turbines. However, because of the difference in the types of turbines, Alternative 2, the BLM Preferred Alternative, would only construct 34 turbines instead of 40 turbines within the same area as Alternative 1. The No Action Alternative would be a continuation of existing conditions.

A Notice of Intent to prepare an EIS for the proposed Borderlands Wind Project was published in the Federal Register on November 9, 2018 (83 FR 56097). The public scoping period closed on December 10, 2018. The BLM held one public scoping meeting on November 14, 2018. The BLM received 51 public scoping comment submission during the 45-day scoping period. The scoping comments focused on wildlife; visual and cultural resources; light pollution, human health, local economic benefits; and property values.

A Notice of Availability to publish the Draft EIS and RMP Amendment for the proposed Borderlands Wind Project was published in the Federal Register on August 9, 2019 (84 FR 39366). The BLM held one public comment meeting. The public comment period closed November 7, 2019. The BLM received 39 letters/comment forms/emails and 247 individual comments during the 90-day public comment period. The comments focused on effects to sensitive wildlife species specifically avian and bats, change to visual resource management class as a result of the impacts to visual resources and change to the existing rural landscape character; groundwater level changes during construction, lack of benefit to the local area, and decreased property value concerns. Comments on the Draft EIS and RMP Amendment were considered and incorporated as appropriate into the Final EIS and Proposed RMP Amendment. Public comments did not result in the addition of substantive revisions to the Draft EIS and RMP Amendment that were published in August 2019. Responses to all comments are in Appendix H of the Final EIS.

The BLM has used and coordinated the NEPA scoping and comment process to help fulfill the public involvement requirements under the National Historic Preservation Act (NHPA) (54 U.S.C. 306108) as provided in 36 CFR 800.2(d)(3.) The information about historic and cultural resources within the area potentially affected by the proposed project has assisted the BLM in identifying and evaluating impacts to such resources in the context of both NEPA and the NHPA.

The BLM has consulted, and will continue to consult, with Indian tribes on a government-to-government basis in accordance with Executive Order 13175 and other policies. Tribal concerns, including impacts to Indian trust assets and potential impacts to cultural resources have been analyzed in the Final EIS.

Before including your address, phone number, email address, or other personal identifying information in your protest, be advised that your entire protest—including your personal information—may be made publicly available at any time. While you can ask us in your protest to withhold from public review your personal identifying information, we cannot guarantee that we will be able to do so.

The BLM Director will make every attempt to promptly render a decision on each protest. The decision will be in writing and will be sent to the protesting party by certified mail, return receipt requested. The decision of the BLM Director shall be the final decision of the Department of the Interior on each protest. Responses to protest issues will be compiled and formalized in a Director's Protest Resolution Report made available following issuance of the decisions.

Authority: 40 CFR 1506.6, 40 CFR 1506.10.

Timothy R. Spisak,
BLM New Mexico State Director.

[FR Doc. 2020-07533 Filed 4-9-20; 8:45 am]

BILLING CODE P